DEPARTMENT OF HEALTH AND HUMAN SERVICES

Centers for Disease Control and Prevention

Advisory Board on Radiation and Worker Health (ABRWH), National Institute for Occupational Safety and Health (NIOSH): Cancellation of Committee and Subcommittee Meeting

This notice announces the cancellation of a previously announced meeting.

Federal Notice Citation of Previous Announcement: October 1, 2004 (Volume 69, Number 190) [Notices] [Page 58915] from the Federal Register Online via GPO Access.

Previously Announced Times And Dates For Committee and Subcommittee Meeting: 9:30 a.m.-8:30 p.m., October 19, 2004. 8 a.m.-4 p.m., October 20, 2004.

Place: The Westin St. Francis, 355 Powell Street, San Francisco, California 94102, telephone 415/397-7000, fax 415/774-0124.

Change in the Meeting: This meeting has been canceled.

Contact Person for More Information: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both the Centers for Disease Control and Prevention and the Agency for Toxic Substances and Disease Registry.

Dated: October 14, 2004.
Alvin Hall,
Director, Management Analysis and Services Office, Centers for Disease Control and Prevention.0

[FR Doc. 04-23432 Filed 10-19-04; 8:45 am]

BILLING CODE 4163-18-P